DEPARTMENT OF HOMELAND SECURITY

Coast Guard

[Docket No. USCG-2021-0345]

Announcing Two Virtual Public Outreach Events

AGENCY: Coast Guard, DHS.

ACTION: Notice of outreach events.

SUMMARY: The Coast Guard announces two virtual public outreach events to discuss the Draft Pacific Coast Port Access Route Study (PAC-PARS) and its recommendations to establish voluntary fairways along the Pacific Coast. Both events will cover the same material.

FOR FURTHER INFORMATION CONTACT: For information about this document call or email LCDR Sara Conrad, Coast Guard Pacific Area (PAC-54), U.S. Coast Guard; telephone (510) 437-3813, email Sara.E.Conrad@uscg.mil.

Public Meeting

We plan to hold two public meetings to discuss the Draft PAC-PARS. The first event will be held on Tuesday, October 4th at 11:00 a.m. PST.

Please use the link below to register in advance for the October 4th event: https://www.zoomgov.com/meeting/register/vJIsfuiqrjsvGeH7UpQC 8jjrJUTR9VjyBlE.

The second event will be held on Tuesday, October 11th at 11:00 a.m. PST.

Please use the link below to register in advance for the October 11th event: https://www.zoomgov.com/meeting/register/vJIscu-trTIsHkwYjco9eFe VUeIqbGSHxB0.

This notice is issued under authority of 46 U.S.C. 70003(c)(1).

Dated: September 27, 2022.
L. Hannah,
Captain, U.S. Coast Guard, Chief, Pacific Area Preparedness Division.

[FR Doc. 2022-21353 Filed 9-30-22; 8:45 am]

BILLING CODE 9110-04-P